DEPARTMENT OF HEALTH AND HUMAN SERVICES

Food and Drug Administration

21 CFR Part 172

[Docket No. FDA-2012-F-0480]

Gruma Corporation, Spina Bifida Association, March of Dimes Foundation, American Academy of Pediatrics, Royal DSM N.V., and National Council of La Raza; Filing of Food Additive Petition; Correction

AGENCY: Food and Drug Administration, HHS.

ACTION: Notice of petition; correction.

SUMMARY: The Food and drug Administration (FDA) is correcting a notice that appeared in the Federal Register of June 13, 2012 (77 FR 35317). The document announced that Gruma Corporation, Spina Bifida Association, March of Dimes Foundation, American Academy of Pediatrics, Royal DSM N.V., and National Council of La Raza had jointly filed a petition proposing that the food additive regulations be amended to provide for the safe use of folic acid in corn masa flour. The document was published with an error in the title of the document signer's signature. This document corrects that error.

FOR FURTHER INFORMATION CONTACT: Joyce Strong, Food and Drug Administration, 10903 New Hampshire Ave., Bldg. 32, rm. 3208, Silver Spring, MD 20993, 301-796-9148.

SUPPLEMENTARY INFORMATION: In FR Doc. 2012-14263, appearing on page 35317 in the Federal Register of Wednesday, June 13, 2012 the following correction is made:

On page 35317, in the third column at the end of the document, Dennis M. Keefe is incorrectly listed as the “Acting Director” of the Office of Food Safety, Center for Food Safety and Applied Nutrition. His title is corrected to read “Director, Office of Food Additive Safety, Center for Food Safety and Applied Nutrition”.

Dated: June 12, 2012.
Dennis M. Keefe,
Director, Office of Food Additive Safety, Center for Food Safety and Applied Nutrition.

[FR Doc. 2012-17432 Filed 7-17-12; 8:45 am]

BILLING CODE 4160-01-P